DEPARTMENT OF HEALTH AND HUMAN SERVICES

Meetings Announcement for the Physician-Focused Payment Model Technical Advisory Committee Required by the Medicare Access and CHIP Reauthorization Act of 2015 (MACRA)

ACTION: Notice of public meetings.

SUMMARY: This notice announces the 2018 meetings of the Physician-Focused Payment Model Technical Advisory Committee (hereafter referred to as “the Committee”) which will be held in Washington, DC. This meeting will include voting and deliberations on proposals for physician-focused payment models (PFPMs) submitted by members of the public. All meetings are open to the public.

DATES: The 2018 PTAC meetings will occur on the following dates:

• Monday-Tuesday, March 26-27, 2018, from 9:00 a.m. to 5:00 p.m. ET

• Thursday-Friday, June 14-15, 2018, from 9:00 a.m. to 5:00 p.m. ET

• Thursday-Friday, September 6-7, 2018, from 9:00 a.m. to 5:00 p.m. ET

• Monday-Tuesday, December 10-11, 2018, from 9:00 a.m. to 5:00 p.m. ET

Please note that times are subject to change. If the times change, registrants will be notified directly via email.

ADDRESSES: All PTAC meetings will be held in the Great Hall of the Hubert H. Humphrey Building, 200 Independence Avenue SW, Washington, DC 20201.

FOR FURTHER INFORMATION CONTACT: Ann Page, Designated Federal Official, at the Office of Health Policy, Assistant Secretary for Planning and Evaluation (ASPE), U.S. Department of Health and Human Services, 200 Independence Ave. SW, Washington, DC 20201, (202) 690-6870.

SUPPLEMENTARY INFORMATION:

I. Purpose. The Physician-Focused Payment Model Technical Advisory Committee (“the Committee”) is required by the Medicare Access and CHIP Reauthorization Act of 2015, 42 U.S.C. 1395ee. This Committee is also governed by provisions of the Federal Advisory Committee Act, as amended (5 U.S.C. App.), which sets forth standards for the formation and use of federal advisory committees. In accordance with its statutory mandate, the Committee is to review physician-focused payment model proposals and prepare recommendations regarding whether such models meet criteria that were established through rulemaking by the Secretary of Health and Human Services (the Secretary). The Committee is composed of 11 members appointed by the Comptroller General.

II. Agenda. At each scheduled meeting, the Committee will hear presentations on PFPMs that are ready for Committee deliberation. The presentations will be followed by public comment and Committee deliberation. If the Committee completes deliberations, voting will occur on recommendations to the Secretary of Health and Human Services. There will be time allocated for public comment on agenda items. Documents will be posted on the Committee website and distributed on the Committee listserv prior to the public meeting. The agenda is subject to change. If the agenda does change, we will inform registrants and update the website.

III. Meeting Attendance. These meetings are open to the public. The public may also attend via conference call or view the meeting via livestream at www.hhs.gov/live. The conference call dial-in information will be sent to registrants prior to the meeting.

Meeting Registration: The public may attend the meetings in-person, participate by phone via audio teleconference, or view the meeting via livestream. Space is limited and registration is preferred in order to attend in-person or by phone. Registration may be completed online at www.regonline.com/PTACMeetingsRegistration.

The following information is submitted when registering:

Name:

Company/organization name:

Postal address:

Email address:

A confirmation email will be sent to registrants shortly after completing the registration process.

IV. Special Accommodations. If sign language interpretation or other reasonable accommodation for a disability is needed, please contact Angela Tejeda, no later than one week prior to the scheduled meeting. Please submit your requests by email to Angela.Tejeda@hhs.gov or by calling 202-401-8297.

V. Copies of the PTAC Charter and Meeting Material. The Secretary's Charter for the Physician-Focused Payment Model Technical Advisory Committee is available on the ASPE website at https://aspe.hhs.gov/charter-physician-focused-payment-model-technical-advisory-committee.

Additional material for this meeting can be found on the ASPE PTAC website. For updates and announcements, please use the link to subscribe to the ASPE PTAC email listserv.

Dated: January 31, 2018.
John R. Graham,
Acting Assistant Secretary for Planning and Evaluation.

[FR Doc. 2018-02211 Filed 2-2-18; 8:45 am]

BILLING CODE 4150-15-P